DEPARTMENT OF LABOR

Employment And Training Administration

ETA-9016 Report on Alien Claimant Activity; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration, Office of Workforce Security is soliciting comments concerning the proposed extension of the collection for the ETA 9016 Report on Alien Claimant Activity.

A copy of the proposed information collection request (ICR) can be obtained by contacting the office listed below in the ADDRESSES section of this notice.

DATES: Written comments must be submitted to the office listed in the addressee's section below on or before February 28, 2005.

ADDRESSES: Diann Lowery, U.S. Department of Labor, Employment and Training Administration, Room S-4231, 200 Constitution Avenue, NW., Washington, DC 20210, Phone: 202-693-3210, Fax: 202-693-3229, e-mail: lowery.diann@dol.gov.

SUPPLEMENTARY INFORMATION:

I. Background

The ETA-9016 Report is used by the Department of Labor to assess whether (and the extent to which) the requirements of the Immigration and Naturalization Service (INS), Systematic Alien Verification for Entitlement (SAVE) system are cost-effective and otherwise appropriate for the Unemployment Insurance (UI) program. In addition, data from the Alien Claims Activity report is being used to assist the Secretary of Labor in determining whether a State Workforce Agency's administrative costs associated with the verification program are reasonable and reimbursable. There is no other report or system available for collecting this required information. The report allows the Department of Labor to determine the number of aliens filing for UI, the number of benefit issues detected, the denials of benefits to aliens, the extent to which State Agencies use the system, and the overall effectiveness and cost efficiency of the verification system. If SWAs are not required to submit the information on the Alien Claims Activity Report, the Department of Labor would not be able to fulfill its responsibilities to assess the SAVE system.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

Type of Review: Extension without change.

Title: ETA 9016, Report on Alien Claimant Activity.

OMB Number: 1205-0268.

Agency Number: ETA 9016.

Recordkeeping: Respondent is expected to maintain data which support the reported data for three years.

Affected Public: 53 State Agencies.

Estimated Total Burden Hours: 53 States x 4 report x 1 hours = 212 hours. Total Burden Cost (operating/maintaining): $0.

Comments submitted in response to this comment request will be summarized and/or included in the request for Office of Management and Budget approval of the information collection request; they will also become a matter of public record.

Dated: December 22, 2004.
Cheryl Atkinson,
Administrator, Office of Workforce Security.

[FR Doc. E4-3900 Filed 12-29-04; 8:45 am]

BILLING CODE 4510-30-P